COMMODITY FUTURES TRADING COMMISSION

Sunshine Act Meetings

TIME AND DATE: 10:30 a.m. EDT, Tuesday, October 6, 2020.

PLACE: Virtual meeting.

STATUS: Open.

MATTERS TO BE CONSIDERED: The Commodity Futures Trading Commission (“Commission” or “CFTC”) will hold this meeting to consider the following matters:

• Final Rule: Amendments to Compliance Requirements for Commodity Pool Operators on Form CPO-PQR; and

• Memorandum of Understanding: MOU Between the CFTC and the Office of Financial Research Regarding the Sharing of Data and Information Collected on Form CPO-PQR.

The agenda for this meeting will be available to the public and posted on the Commission's website at https://www.cftc.gov. Instructions for public access to the live feed of the meeting will also be posted on the Commission's website. In the event that the time, date, or place of this meeting changes, an announcement of the change, along with the new time, date, or place of the meeting, will be posted on the Commission's website.

CONTACT PERSON FOR MORE INFORMATION: Christopher Kirkpatrick, Secretary of the Commission, 202-418-5964.

Authority: 5 U.S.C. 552b.

Dated: September 29, 2020.
Christopher Kirkpatrick,
Secretary of the Commission.

[FR Doc. 2020-21912 Filed 9-30-20; 11:15 am]

BILLING CODE 6351-01-P